DEPARTMENT OF AGRICULTURE

National Agricultural Statistics Service

Notice of Intent to Revise and Extend a Currently Approved Information Collection

AGENCY: National Agricultural Statistics Service, USDA.

ACTION: Notice and request for comments.

SUMMARY: In accordance with the Paperwork Reduction Act of 1995 (Pub. L. No. 104-13) and Office of Management and Budget regulations at 5 CFR part 1320 (60 FR 44978, August 29, 1995), this notice announces the intention of the National Agricultural Statistics Service (NASS) to revise and extend a currently approved information collection, the Agricultural Labor Survey.

DATES: Comments on this notice must be received by July 11, 2002 to be assured of consideration.

ADDRESSES: Comments may be mailed to Ginny McBride, NASS OMB Clearance Officer, U.S. Department of Agriculture, Room 5336-South, 1400 Independence Avenue SW, Washington, D.C. 20250-2024 or sent electronically to gmcbride@nass.usda.gov.

FOR FURTHER INFORMATION CONTACT: Rich Allen, Associate Administrator, National Agricultural Statistics Service, U.S. Department of Agriculture, (202) 720-4333 or Linda Hutton, Chief, Environmental, Economics, and Demographics Branch, National Agricultural Statistics Service, U.S. Department of Agriculture, (202) 720-6146.

SUPPLEMENTARY INFORMATION: Title: Agricultural Labor Survey.

OMB Number: 0535-0109.

Expiration Date of Approval: September 30, 2002.

Type of Request: Intent to Revise and Extend a Currently Approved Information Collection.

Abstract: The primary objective of the National Agricultural Statistics Service is to prepare and issue State and national estimates of crop and livestock production, disposition, and prices. The Agricultural Labor Survey provides statistics on the number of agricultural workers, hours worked, and wage rates. Number of workers and hours worked are used to estimate agricultural productivity; wage rates are used in the administration of the “H-2A” Program and for setting Adverse Effect Wage Rates. Survey data are also used to carry out provisions of the Agricultural Adjustment Act. NASS intends to request that the Agricultural Labor Survey be approved for another 3 years, with the program reduction noted below.

Notice is hereby given that the National Agricultural Statistics Service has modified the scope of the quarterly Agricultural Labor program as of July 2002. Based on findings of a recent comprehensive program review, the following changes have been made: (a) The number and average hours worked of self-employed and unpaid agricultural workers will no longer be collected each quarter and the annual averages will no longer be published and (b) the percent of hired workers that are migrant labor will no longer be collected or published.

These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 15 minutes per response.

Respondents: Farms and businesses.

Estimated Number of Respondents: 14,700.

Estimated Total Annual Burden on Respondents: 11,000 hours.

Copies of this information collection and related instructions can be obtained without charge from Ginny McBride, NASS OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. All responses to this notice will become a matter of public record and be summarized in the request for OMB approval.

Dated: April 26, 2002.
Rich Allen,
Associate Administrator.

[FR Doc. 02-11226 Filed 5-6-02; 8:45 am]

BILLING CODE 3410-20-P